DEPARTMENT OF ENERGY

10 CFR Parts 430 and 431

Energy Conservation Program: Request for Information on the Emerging Smart Technology Appliance and Equipment Market

AGENCY: Office of Energy Efficiency and Renewable Energy, Department of Energy.

ACTION: Request for information (RFI).

SUMMARY: The U.S. Department of Energy (DOE) is initiating a data and information collection process through this request for information to better understand market trends and issues in the emerging market for appliances and commercial equipment that incorporate smart technology. DOE aims to gain greater perspective on the direction of the emerging smart technology market, including any energy efficiency trends or issues with respect to appliances or equipment incorporating smart technologies. DOE understands the significant investments in innovation being made with respect to such products. DOE's intent in issuing this RFI is to gather information to ensure that DOE does not inadvertently impede such innovation in fulfilling its statutory responsibilities in setting efficiency standards for covered products and equipment. DOE welcomes written comments from the public on any subject within the scope of this document, including topics not directly outlined in this RFI. DOE also welcomes comments on any additional topics that may inform DOE's overall understanding of relevant smart technology issues, including any suggestions for reducing or avoiding regulatory burdens within this context.

DATES: Written comments and information are requested and will be accepted on or before November 16, 2018.

ADDRESSES: Interested persons are encouraged to submit comments using the Federal eRulemaking Portal at http://www.regulations.gov. Follow the instructions for submitting comments. Alternatively, interested persons may submit comments, identified by “Smart Products RFI”, by any of the following methods:

1. Federal eRulemaking Portal: http://www.regulations.gov. Follow the instructions for submitting comments.

2. Email: to SmartProductsRFI@HQ.doe.gov. Include “Smart Products RFI” in the subject line of the message.

3. Postal Mail: U.S. Department of Energy, Office of Energy Efficiency and Renewable Energy, Room 6A-013, 1000 Independence Avenue SW, Washington, DC 20585-0121. Telephone: (202) 586-6803. If possible, please submit all items on a compact disc (CD), in which case it is not necessary to include printed copies.

4. Hand Delivery/Courier: U.S. Department of Energy, Office of Energy Efficiency and Renewable Energy, Room 6A-013, 1000 Independence Avenue SW, Washington, DC 20585-0121. Telephone: (202) 586-6803. If possible, please submit all items on a CD, in which case it is not necessary to include printed copies.

No telefacsimilies (faxes) will be accepted. For detailed instructions on submitting comments and additional information on this process, see section III of this document.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov. The docket web page will contain simple instructions on how to access all documents, including public comments, in the docket. See section III for information on how to submit comments through http://www.regulations.gov.

FOR FURTHER INFORMATION CONTACT: Ms. Jennifer Tiedeman, U.S. Department of Energy, Office of the General Counsel, GC-33, 1000 Independence Avenue SW, Washington, DC 20585-0121. Telephone: (202) 287-6111. Email: Jennifer.Tiedeman@Hq.Doe.Gov.

For further information on how to submit a comment or review other public comments and the docket, contact Energy Efficiency and Renewable Energy staff at (202) 586-6803 or by email: SmartProductsRFI@HQ.doe.gov.

SUPPLEMENTARY INFORMATION:

Table of Contents

I. Authority and Background

II. Request for Information

III. Submission of Comments

I. Authority and Background

The Energy Policy and Conservation Act of 1975 (“EPCA” or “the Act”),¹ Public Law 94-163 (42 U.S.C. 6291-6317, as codified), among other things, authorizes DOE to regulate the energy efficiency of a number of consumer products and industrial equipment. Title III, Part B ² of EPCA established the Energy Conservation Program for Consumer Products Other Than Automobiles, which sets forth a variety of provisions designed to improve energy efficiency. Title III, Part C of EPCA established the Energy Conservation Program for Certain Industrial Equipment.

¹ All references to EPCA in this document refer to the statute as amended through the EPS Improvement Act of 2017, Public Law 115-115 (January 12, 2018).

² For editorial reasons, upon codification in the U.S. Code, part B was redesignated part A.

Under EPCA, DOE's energy conservation program consists essentially of four parts: (1) Testing, (2) labeling, (3) Federal energy conservation standards, and (4) certification and enforcement procedures. Relevant provisions of the Act include definitions (42 U.S.C. 6291; 42 U.S.C. 6311), energy conservation standards (42 U.S.C. 6295; 42 U.S.C. 6317), test procedures (42 U.S.C. 6293; 42 U.S.C. 6314), labeling provisions (42 U.S.C. 6294; 42 U.S.C. 6315), and the authority to require information and reports from manufacturers (42 U.S.C. 6296; 42 U.S.C. 6316).

Federal energy efficiency requirements for covered products established under EPCA generally supersede State laws and regulations concerning energy conservation testing, labeling, and standards. (42 U.S.C. 6297; 42 U.S.C. 6316) DOE may, however, grant waivers of Federal preemption for particular State laws or regulations, in accordance with the procedures and other provisions of EPCA. (42 U.S.C. 6297(d); 42 U.S.C. 6316(b)).

DOE recognizes that many manufacturers are now developing “connected” appliances, allowing for options such as remote control access, automatic supply replenishment, and intelligent energy consumption, as consumers increasingly demand such features. In addition to Wi-Fi connection capabilities, some manufacturers are incorporating, among other things, full-color touchscreens in various appliance models, allowing for potentially unique applications such as video and internet downloading. DOE appreciates the importance of many of these consumer-driven technological developments, while remaining cautious of energy saving design options that may compromise public safety due to associated cyber security risks. DOE is interested in better understanding the state of the market for smart products and equipment, the impact of any such smart features on the energy consumption of these models, and potential privacy and security risks these features may present. Information received will assist DOE in understanding such innovation so as to avoid inhibiting it through its standards and test procedure development processes.

II. Request for Information

DOE has identified a variety of issues on which it seeks input to aid in its understanding of the rapidly developing market for smart appliances and equipment. Specifically, DOE is requesting comment on the direction of the market for these smart models, including any relevant trends; factors driving the market, including consumer demand; any relevant market metrics; specific technologies either currently on the market or under development (if the information provided is considered proprietary, it should be clearly marked as such and submitted as specified in Section III of this document); the cyber security risks associated with these technologies; the impact, if any, of smart features on the energy efficiency or energy use of appliance or equipment models; whether, and if so, how, the energy use related to the network connectivity of such products and equipment should be measured for purposes of standards development, particularly with respect to products and equipment for which energy conservation standards have already been established under EPCA, and any concerns that manufacturers may have with respect to smart appliances or equipment within the context of DOE's regulatory program.

Additionally, DOE welcomes comments on other issues relevant to this market that may not specifically be identified in this document. In particular, DOE notes that under Executive Order 13771, “Reducing Regulation and Controlling Regulatory Costs,” Executive Branch agencies such as DOE are directed to manage the costs associated with the imposition of expenditures required to comply with Federal regulations. See 82 FR 9339 (February 3, 2017). Pursuant to that Executive Order, DOE encourages the public to provide input on measures DOE could take to lower the cost of its regulations applicable to appliances or equipment with smart features.

III. Submission of Comments

DOE invites all interested parties to submit in writing, by the date listed in the DATES section of this document, comments and information on matters addressed in this document and on other matters relevant to DOE's consideration of the market for “smart” appliances and equipment. These comments and information will aid in DOE's better understanding of issues surrounding this developing market space with respect to those models within the Department's regulatory purview.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (CBI)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery, or mail. Comments and documents submitted via email, hand delivery, or mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: one copy of the document marked confidential including all the information believed to be confidential, and one copy of the document marked “non-confidential” with the information believed to be confidential deleted. Submit these documents via email or on a CD, if feasible. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

It is DOE's policy that all comments may be included in the public docket, without change and as received, including any personal information provided in the comments (except information deemed to be exempt from public disclosure).

DOE considers public participation to be a very important part of the process for developing a greater understanding of the emerging “smart” technology sector. DOE actively encourages the participation and interaction of the public during the comment period in each stage of this process. Interactions with and between members of the public provide a balanced discussion of the issues and assist DOE in the process. Anyone who wishes to be added to the DOE mailing list to receive future notices and information about this process should contact Energy Efficiency and Renewable Energy staff at (202) 586-6803 or via email at SmartProductsRFI@HQ.doe.gov.

Signed in Washington, DC, on September 7, 2018.
Cathy Tripodi,
Acting Assistant Secretary, Energy Efficiency and Renewable Energy.

[FR Doc. 2018-20131 Filed 9-14-18; 8:45 am]

BILLING CODE 6450-01-P